ENVIRONMENTAL PROTECTION AGENCY

[FRL-8737-6]

EPA-Venture Capital Community Summit: Exploring Programs to Commercialize Environmental Technology

AGENCY: Environmental Protection Agency.

ACTION: Notice of meeting.

SUMMARY: The Environmental Protection Agency (EPA) will hold an EPA-Venture Capital Community Summit: Exploring Programs to Commercialize Environmental Technology to follow up the National Advisory Council for Environmental Policy and Technology (NACEPT) report on “EPA and the Venture Capital Community: Building Bridges to Commercialize Technology” (April 2008). The report recommends that EPA create programs, similar to those of the U.S. Department of Energy, to provide financial support (e.g., loan guarantees, grants, revolving loan funds) to encourage venture capital investment in environmental technology commercialization. The Summit will bring together senior career EPA managers (Deputy Assistant Administrators and Deputy Regional Administrators) with senior venture capitalists who were part of the NACEPT Venture Capital Study. A report will be produced from the Summit that will be a companion to the NACEPT Venture Capital Report; both will be given to the next Administration, the venture capital community, technology developers, state and local governments, Congressional members and staff, academia, and members of the public. The Summit will be open to the public.

DATES: The Summit will be held on November 12, 2008, beginning at 10 a.m. and adjourning at 4:30 p.m. Registration is at 9:30 a.m. Times noted are Eastern Time.

ADDRESSES: The meeting will be held at the Ronald Reagan Building and International Trade Center, 1300 Pennsylvania Avenue, NW., Washington, DC, in the International Gateway Room on the Mezzanine.

SUPPLEMENTARY INFORMATION: The Venture Capital Report is available electronically through http://www.epa.gov/etop. A hard copy of the report can be ordered from the National Service Center for Environmental Publications by requesting document number EPA/600/R-08/043 through the Web site ordering system at http://www.epa.gov/nscep or by calling 1-800-490-9198. The agenda for the Summit can be found electronically through the EPA Web site at http://www.epa.gov/ncer/venturecapital.

The Summit is open to the public. Registration before the Summit is requested. Any member of the public wishing to make a presentation at the Summit should request to do so beforehand. Presentations should be limited to 3 minutes or less. Time allotted will be shortened if several people request to speak.

The results of the Summit will be discussed the following day (November 13) in a NACEPT forum on future directions for EPA to be chaired by the EPA Administrator. This forum will be part of the NACEPT Council 20-Year Meeting on November 13 and 14, for which there will be a separate Federal Register notice.

Special Accommodations: EPA welcomes the attendance of the public at this Summit and will make every effort to accommodate persons with disabilities. If you require special accommodations due to a disability, please contact Linda Parham at parham.linda@epa.gov at least seven days before the meeting.

FOR FURTHER INFORMATION CONTACT: To register for the Summit, request time to make an oral public comment at the Summit, and for details on how to provide written public comments, please see the National Center for Environmental Research's Web site at http://www.epa.gov/ncer/venturecapital. Questions about the Summit and written comments should be submitted to Paul Shapiro at shapiro.paul@epa.gov.

Dated: October 28, 2008.
William H. Sanders III,
Director, National Center for Environmental Research.

[FR Doc. E8-26263 Filed 11-3-08; 8:45 am]

BILLING CODE 6560-50-P